DEPARTMENT OF COMMERCE

International Trade Administration

[A-570-504]

Petroleum Wax Candles From the People's Republic of China (PRC): Notice of Extension of Time Limit of Final Results of Antidumping Duty Administrative Review

AGENCY: Import Administration, International Trade Administration, Department of Commerce.

EFFECTIVE DATE: November 20, 2002.

FOR FURTHER INFORMATION CONTACT: Mark Hoadley or Brett Royce, Office of AD/CVD Enforcement VII, Import Administration, International Trade Administration, U.S. Department of Commerce, 14th Street and Constitution Avenue, NW., Washington DC 20230; telephone: (202) 482-3148 or (202) 482-4106, respectively.

SUPPLEMENTARY INFORMATION:

The Applicable Statute

Unless otherwise indicated, all citations to the statute are references to the Tariff Act of 1930, as amended (the Act). In addition, unless otherwise indicated, all citations to the Department's regulations are to the regulations codified at 19 CFR part 351(2001).

Background

On August 28, 1986, the Department of Commerce (the Department) published the antidumping duty order on petroleum wax candles from the PRC (51 FR 30686). On August 1, 2001, the Department published an opportunity to request an administrative review of the order (66 FR 39729). On August 31, 2001, the Department received a request from Dongguan Fay Candle Co., Ltd. (Fay Candle) to conduct an administrative review of the antidumping duty order on petroleum wax candles from the PRC. On October 1, 2001, the Department published a notice of initiation of this administrative review covering the period of August 1, 2000 through July 31, 2001 (66 FR 49924). On April 18, 2002, the Department extended the due date for the preliminary results of this review (67 FR 19159). On September 10, 2002, the Department published the preliminary results of this review (67 FR 57384). On October 4, 2002, Fay Candle, requested an extension of the due date for the case and rebuttal briefs and any hearing requests. On October 17, 2002, the Department extended the case brief and hearing request due date to November 25, 2002, and the rebuttal brief due date to December 9, 2002.

Extension of Time Limit for Final Results

Pursuant to section 751(a)(3)(A) of the Act, the Department may extend the deadline for completion of the final results of an administrative review if it determines that it is not practicable to complete the final results within the statutory time limit of 120 days from the date on which the preliminary results were published. The Department has determined that it is not practicable to complete the final results of this review within the statutory time limit. During the course of this review, numerous issues have been raised concerning the applicability of facts available. Due to the complexity of the issues involved, it is not practicable to complete this review within the time limits mandated by section 751(a)(3)(A) of the Act and section 19 CFR 351.213(h)(1) of the Department's regulations.

Therefore, the Department is extending the time limits for the final results by an additional 60 days (180 days from the date of publication of the preliminary results pursuant to section 19 CFR 351.213(h)(2)), until no later than March 10, 2003 (the calculated due date is March 9, 2003; however, since March 9, falls on a weekend, the due date will fall on the next business day, March 10). This notice is published in accordance with section 751(1)(3)(A) of the Act and section 19 CFR 351.213(h)(2) of the Department's regulations.

Dated: November 13, 2002.
Barbara E. Tillman,
Acting Deputy Assistant Secretary for Import Administration, Group III.

[FR Doc. 02-29495 Filed 11-19-02; 8:45 am]

BILLING CODE 3510-DS-S